OFFICE OF THE UNITED STATES TRADE REPRESENTATIVE

Notice of Meeting of the Industry Trade Advisory Committee on Small and Minority Business (ITAC-11)

AGENCY: Office of the United States Trade Representative.

ACTION: Notice of a partially opened meeting.

SUMMARY: The Industry Trade Advisory Committee on Small and Minority Business (ITAC-11) will hold a meeting on Friday, August 10, 2012, from 9:00 a.m. to 4:00 p.m. The meeting will be opened to the public from 1:00 p.m. to 4:00 p.m.

DATES: The meeting is scheduled for August 10, 2012, unless otherwise notified.

ADDRESSES: The meeting will be held at the University Club Atop Symphony Towers, San Diego, CA.

FOR FURTHER INFORMATION CONTACT: Laura Hellstern, DFO for ITAC-11 at (202) 482-3222, Department of Commerce, 14th Street and Constitution Avenue NW., Washington, DC 20230.

SUPPLEMENTARY INFORMATION: The Agenda topics to be discussed are:

—Pre-Decisional Deliberations on a draft Letter of Recommendation on U.S. & Foreign Commercial Service Proposed New Increases in Fees.

—Access to and use of U.S. Small Business Administration State Trade and Export Promotion (STEP) Grants by San Diego-area business.

—Congressional perspective on trade barriers for small and minority business.

—Update on pending trade legislation that would impact small and minority businesses.

Christine L. Turner,
Assistant U.S. Trade Representative, Intergovernmental Affairs and Public Engagement.

[FR Doc. 2012-18016 Filed 7-23-12; 8:45 am]

BILLING CODE 3190-W2-P